DEPARTMENT OF DEFENSE

Department of the Navy

Notice of Availability of Government-Owned Inventions; Available for Licensing

AGENCY: Department of the Navy; DoD.

ACTION: Notice.

SUMMARY: The inventions listed below are assigned to the United States Government as represented by the Secretary of the Navy and are available for domestic and foreign licensing by the Department of the Navy.

The following patents are available for licensing: U.S. Patent No. 8,857,463: MONITOR FOR PRESSURIZED CANISTERS//U.S. Patent No. 8,858,789: SYSTEM FOR OIL SPILL CLEAN UP AND OIL RECOVERY//U.S. Patent No. 8,860,611: RFID-BASED MOBILE VEHICLE LOCALIZATION//U.S. Patent No. 8,887,548: LAND MINE SIMULATOR//U.S. Patent No. 8,899,137: REMOTE JETTISON DISCONNECT SYSTEM FOR A MINE ROLLER//U.S. Patent No. 8,905,103: TOOL FOR FASTENING AN ATTACHMENT ELEMENT TO A SURFACE//U.S. Patent No. 8,937,641: HOLOGRAPHIC MAP//U.S. Patent No. 8,937,849: AUTO-FOCUS FOR CIRCULAR SYNTHETIC APERTURE SONAR//U.S. Patent No. 8,938,325: CONTROL SYSTEM FOR STABILIZING A SINGLE LINE SUSPENDED MASS IN YAW//U.S. Patent No. 8,982,670: MULTI-SENSOR EVENT DETECTION SYSTEM//U.S. Patent No. 8,987,598: CORROSSION RESISTANT MINESWEEPING CABLE//U.S. Patent No. 8,988,036: SOLAR PANEL STORAGE AND DEPLOYMENT SYSTEM//U.S. Patent No. 8,988,037: SOLAR PANEL STORAGE AND DEPLOYMENT SYSTEM//U.S. Patent No. 8,988,972: VARIABLE SHOCK WAVE BIO-OIL EXTRACTION SYSTEM//U.S. Patent No. 9,027,455: SLURRY LINE CHARGE MINE CLEARANCE SYSTEM AND METHOD//U.S. Patent No. 9,056,679: SYSTEM AND METHOD FOR AIRBORNE DEPLOYMENT OF OBJECT DESIGNED FOR WATERBORNE TASK//U.S. Patent No. 9,134,403: SYSTEM AND METHOD FOR RELATIVE LOCALIZATION//

ADDRESSES: Requests for copies of the patents cited should be directed to Office of Counsel, Naval Surface Warfare Center Panama City Division, 110 Vernon Ave., Panama City, FL 32407-7001.

FOR FURTHER INFORMATION CONTACT: Ms. Brenda Squires, Patent Administration, Naval Surface Warfare Center Panama City Division, 110 Vernon Ave., Panama City, FL 32407-7001, telephone 850-234-4646.

Authority: 35 U.S.C. 207, 37 CFR part 404.

Dated: December 5, 2016.
A.M. Nichols,
Lieutenant Commander, Judge Advocate General's Corps, U.S. Navy, Federal Register Liaison Officer.

[FR Doc. 2016-29507 Filed 12-8-16; 8:45 am]

BILLING CODE 3810-FF-P